DEPARTMENT OF COMMERCE

National Oceanic and Atmospheric Administration

50 CFR Part 622

[Docket No. 200124-0029]

RTID 0648-XA497

Fisheries of the Caribbean, Gulf of Mexico, and South Atlantic; Reef Fish Fishery of the Gulf of Mexico; 2020 Red Snapper Private Angling Component Accountability Measure in Federal Waters Off Louisiana

AGENCY: National Marine Fisheries Service (NMFS), National Oceanic and Atmospheric Administration (NOAA), Commerce.

ACTION: Temporary rule, accountability measure.

SUMMARY: Through this temporary rule, NMFS implements accountability measures (AMs) for the red snapper recreational sector private angling component in the Gulf of Mexico (Gulf) off Louisiana for the 2020 fishing year. Based on information provided by the Louisiana Department of Wildlife and Fisheries (LDWF), NMFS has determined that the 2019 Louisiana regional management area private angling component annual catch limit (ACL) for Gulf red snapper was exceeded. Therefore, NMFS reduces the 2020 private angling component ACL of Gulf red snapper for the Louisiana regional management area. This reduction will remain in effect through the remainder of the current fishing year on December 31, 2020, and is necessary to protect the Gulf red snapper resource.

DATES: This temporary rule is effective from 12:01 a.m., local time, on September 25, 2020, until 12:01 a.m., local time, on January 1, 2021.

FOR FURTHER INFORMATION CONTACT: Kelli O'Donnell, NMFS Southeast Regional Office, telephone: 727-824-5305, email: kelli.odonnell@noaa.gov.

SUPPLEMENTARY INFORMATION: The Gulf reef fish fishery, which includes red snapper, is managed under the Fishery Management Plan for the Reef Fish Resources of the Gulf of Mexico (FMP). The FMP was prepared by the Gulf of Mexico Fishery Management Council (Council) and is implemented by NMFS under the authority of the Magnuson-Stevens Fishery Conservation and Management Act (Magnuson-Stevens Act) through regulations at 50 CFR part 622. All red snapper weights discussed in this temporary rule are in round weight.

In 2015, Amendment 40 to the FMP established two components within the recreational sector fishing for red snapper: The private angling component, and the Federal charter vessel and headboat (for-hire) component (80 FR 22422, April 22, 2015). In 2020, NMFS implemented Amendments 50 A-F to the FMP, which delegated authority to the Gulf states (Louisiana, Mississippi, Alabama, Florida, and Texas) to establish specific management measures for the harvest of red snapper in Federal waters of the Gulf by the private angling component of the recreational sector (85 FR 6819, February 6, 2020). These amendments allocate a portion of the private angling ACL to each state, and each state is required to constrain landings to its allocation as part of state management.

As described at 50 CFR 622.39(a)(2)(i), the Gulf red snapper recreational sector quota (ACL) is 7.399 million lb (3.356 million kg) and the recreational private angling component quota (ACL) is 4.269 million lb (1.936 million kg). Also, as described at 50 CFR 622.23(a)(1)(ii)(C), the Louisiana regional management area private angling component ACL is 816,233 lb (370,237 kg). Regulations at 50 CFR 622.23(b) require that if a state's red snapper private angling component landings exceed the applicable state's component ACL, then in the following fishing year, that state's private angling ACL will be reduced by the amount of that ACL overage in the prior fishing year.

For the 2019 fishing year, the Louisiana recreational red snapper private component (private vessel and state charter vessels) was managed under an exempted fishing permit with a state ACL of 816,439 lb (370,331 kg). Amendment 50F provided that any overage of the 2019 Louisiana ACL would be applied to Louisiana's portion of the 2020 private angling ACL. NMFS has determined that landings of red snapper off Louisiana for the private angling component, which includes landings for state charter vessels, in 2019 were 848,340 lb (384,801 kg); which is 31,901 lb (14,470 kg) greater than 2019 Louisiana allocation of the private angling component ACL. Accordingly, for the 2020 fishing year, this temporary rule reduces the Louisiana regional management area private angling component ACL for Gulf red snapper by the ACL overage amount of 31,901 lb (14,470 kg) and resulting in a revised private angling ACL for Louisiana of 784,332 lb (355,767 kg).

On August 24, 2020, NMFS published a notice in the Federal Register reducing the 2020 recreational ACL and private angling ACL for Gulf red snapper as a result of a private angling ACL overage in 2019 for the Texas regional management area (85 FR 52055). This resulted in an adjusted 2020 recreational ACL for Gulf red snapper of 7,288,474 lb (3,305,996 kg) and an adjusted 2020 recreational private angling component ACL of 4,158,474 lb (1,886,252 kg). Consistent with the reduction in the Louisiana regional management area private angling component ACL, NMFS further reduces the 2020 total recreational ACL to 7,256,573 lb (3,291,526 kg) and the total private angling component ACL to 4,126,573 lb (1,871,782 kg). The recreational private angling component ACLs for other Gulf state regional management areas (Texas, Mississippi, Alabama, and Florida) for 2020 are unaffected by this action. The reduction in the 2020 red snapper private angling component ACL for the Louisiana regional management area is effective at 12:01 a.m., local time, on [insert date of publication with the Office of the Federal Register], and will remain in effect through the end of the fishing year on January 1, 2021.

The LDWF is responsible for ensuring that 2020 private angling component landings in the Louisiana regional management area do not exceed the adjusted 2020 Louisiana ACL. NMFS understands that after the LDWF identified that an ACL overage had occurred in 2019, it adjusted the 2020 Louisiana red snapper private angling season to account for the reduction in the Louisiana ACL as required by the regulations at 50 CFR 622.23(b) and implemented through this temporary rule.

Classification

NMFS issues this action pursuant to section 305(d) of the Magnuson-Stevens Act. This action is required under 50 CFR 622.23(b) which was issued pursuant to section 304(b) of the Magnuson-Stevens Act, and is exempt from review under Executive Order 12866.

These measures are exempt from the procedures of the Regulatory Flexibility Act because the temporary rule is issued without opportunity for prior notice and comment.

This action is based on the best scientific information available. The Assistant Administrator for NOAA Fisheries (AA) finds that the need to implement this action to reduce the private angling component ACL for the Louisiana regional management area constitutes good cause to waive the requirements to provide prior notice and opportunity for public comment on this temporary rule pursuant to the authority set forth in 5 U.S.C. 553(b)(B), because such procedures are unnecessary and contrary to the public interest. Such procedures are unnecessary because the rule implementing the post-season ACL adjustment authority has already been subject to notice and comment, and all that remains is to notify the public of the ACL overage adjustment. Such procedures are contrary to the public interest because a failure to implement the ACL overage adjustment immediately may result in continued confusion among the public and Gulf state officials about what ACL is in effect for Louisiana for the 2020 fishing year.

For the aforementioned reasons, the AA also finds good cause to waive the 30-day delay in the effectiveness of the action under 5 U.S.C. 553(d)(3).

Authority: 16 U.S.C. 1801 et seq.

Dated: September 22, 2020.
Jennifer M. Wallace,
Acting Director, Office of Sustainable Fisheries, National Marine Fisheries Service.

[FR Doc. 2020-21246 Filed 9-24-20; 8:45 am]

BILLING CODE 3510-22-P